DEPARTMENT OF THE INTERIOR

Fish and Wildlife Service

Notice of Issuance of Permit for Incidental Take of Threatened Species for the Briargate Development, El Paso County, CO

AGENCY: Fish and Wildlife Service.

ACTION: Notice of issuance of permit for incidental take of endangered species.

SUMMARY: On November 22, 2002, and January 21, 2003, notices were published in the Federal Register (67 FR 70453 and 68 FR 2792, respectively), that an application had been filed with the U.S. Fish and Wildlife Service (Service) by La Plata Investments, LLC, regarding the Briargate Development, El Paso County, Colorado, for a permit to incidentally take Preble's meadow jumping mouse (Zapus hudsonius preblei), pursuant to section 10(a)(1)(B) of the Endangered Species Act of 1973 (16 U.S.C. 1539), as amended. The “Environmental Assessment/Habitat Conservation Plan for the Briargate Development, located along Upper Pine Creek, Colorado Springs, El Paso County, Colorado” accompanied the permit application. Notice is hereby given that on February 28, 2003, as authorized by the provisions of the Endangered Species Act, the Service issued a permit (TE-064967-0) to the above named party subject to certain conditions set forth therein. The permit was granted only after the Service determined that it was applied for in good faith, that granting the permit will not be to the disadvantage of the threatened species, and that it will be consistent with the purposes and policy set forth in the Endangered Species Act, as amended.

Additional information on this permit action may be requested by contacting the Colorado Field Office, 755 Parfet Street, Suite 361, Lakewood, Colorado 80215, telephone (303) 275-2370, between the hours of 7 a.m. and 4:30 p.m. weekdays.

Dated: February 28, 2003.
Ralph O. Morgenweck,
Regional Director, Denver, Colorado.

[FR Doc. 03-6391 Filed 3-17-03; 8:45 am]

BILLING CODE 4310-55-P